DEPARTMENT OF THE TREASURY

Office of Foreign Assets Control

31 CFR Part 528

Publication of International Criminal Court-Related Sanctions Regulations Web General License 8

AGENCY: Office of Foreign Assets Control, Treasury.

ACTION: Publication of a web general license.

SUMMARY: The Department of the Treasury's Office of Foreign Assets Control (OFAC) is publishing a general license (GL) issued pursuant to the International Criminal Court-Related Sanctions Regulations: GL 8.

DATES: GL 8 was issued on July 9, 2025. See SUPPLEMENTARY INFORMATION for additional relevant dates.

FOR FURTHER INFORMATION CONTACT: OFAC: Assistant Director for Regulatory Affairs, 202-622-4855; or https://ofac.treasury.gov/contact-ofac.

SUPPLEMENTARY INFORMATION:

Electronic Availability

This document and additional information concerning OFAC are available on OFAC's website: https://ofac.treasury.gov.

Background

On July 9, 2025, OFAC issued GL 8 to authorize certain transactions otherwise prohibited by the International Criminal Court-Related Sanctions Regulations, 31 CFR part 528. This GL has an expiration date of August 8, 2025. This GL was made available on OFAC's website (https://ofac.treasury.gov) when it was issued. The text of this GL is provided below.

OFFICE OF FOREIGN ASSETS CONTROL

International Criminal Court-Related Sanctions Regulations

31 CFR Part 528

GENERAL LICENSE NO. 8

Authorizing the Wind Down of Transactions Involving Francesca Paola Albanese

(a) Except as provided in paragraph (b) of this general license, all transactions prohibited by the International Criminal Court-Related Sanctions Regulations (ICCSR), 31 CFR part 528, that are ordinarily incident and necessary to the wind down of any transaction involving Francesca Paola Albanese (Albanese), or any entity in which Albanese owns, directly or indirectly, a 50 percent or greater interest, are authorized through 12:01 a.m. eastern daylight time, August 8, 2025, provided that any payment to a blocked person is made into a blocked account in accordance with the ICCSR.

(b) This general license does not authorize any transactions otherwise prohibited by the ICCSR, including transactions involving any person blocked pursuant to the ICCSR other than the blocked persons described in paragraph (a) of this general license, unless separately authorized.

Lisa M. Palluconi,

Acting Director, Office of Foreign Assets Control.

Dated: July 9, 2025.

Bradley T. Smith,
Director, Office of Foreign Assets Control.

[FR Doc. 2025-15357 Filed 8-12-25; 8:45 am]

BILLING CODE 4810-AL-P